ENVIRONMENTAL PROTECTION AGENCY

[ER-FRL-9002-5]

Environmental Impacts Statements; Notice of Availability

Responsible Agency: Office of Federal Activities, General Information (202) 564-7146 or http://www.epa.gov/compliance/nepa/.

Weekly receipt of Environmental Impact Statements

Filed 04/02/2012 Through 04/06/2012

Pursuant to 40 CFR 1506.9

Notice

Section 309(a) of the Clean Air Act requires that EPA make public its comments on EISs issued by other Federal agencies. EPA's comment letters on EISs are available at: http://www.epa.gov/compliance/nepa/eisdata.html.

EIS No. 20120098, Draft EIS, USAF, 00, F-35A Operational Basing, Beddown and Operation of F-35A Aircraft for the Combat Air Forces at One or More Locations throughout the Contiguous U.S. from 2015 through 2020, Comment Period Ends: 06/04/2012, Contact: Nicholas Germanos 757-764-5994.

EIS No. 20120099, Draft EIS, BLM, CA, Desert Harvest Solar Project, Construction, Operation, Maintenance, and Decommissioning of a 150-megawatt Photovoltaic Solar Energy Facility and Generation-Intertie Transmission Line, Consideration of Issuance of a Right-of-Way Grant, Riverside County, CA, Comment Period Ends: 07/13/2012, Contact: Lynnette Elser 951-697-5233.

EIS No. 20120100, Final EIS, NRC, WA, Generic—License Renewal of Nuclear Plants, Supplement 47 Regarding Columbia Generating Station (NUREG-1437), Issuance of a Renewed Operating License for an Additional 20 Years, Benton County, WA, Review Period Ends: 05/14/2012, Contact: Paula Cooper 301-415-2323.

EIS No. 20120101, Draft EIS, USACE, MS, Pascagoula Lower Sound/Bayou Casotte Channel Widening, Issuance of a Permit to Dredge or Excavate Adjacent to a Federal Navigation Channel in or Affecting Navigable Waters of the U.S., Jackson County, MS, Comment Period Ends: 05/29/2012, Contact: Philip Hegji 251-690-3222.

EIS No. 20120102, Final Supplement, USFS, MT, Young Dodge Project, Proposed Timber Harvest and Associate Activities, Updated Information on the First 3 Alternatives, Prescribed Burning, Road and Recreation Management, Kootenai National Forest, Rexford Ranger District, Lincoln County, MT, Review Period Ends: 05/14/2012, Contact: Moira McKelvey 406-296-2536.

Amended Notices

EIS No. 20120078, Second Draft Supplement, FHWA, TX, Trinity Parkway Project, Construction of a Six-Lane Controlled Access Toll Facility from IH-35 E/TX-183 to US-175/TX-310, Additional Information on the Compatibility with Levee Remediation Plans for the Dallas Floodway and New Information on Historic Resources, U.S. Army COE Section 10 and 404 Permits, Dallas County, TX, Comment Period Ends: 05/18/2012, Contact: Salvador Deocampo 512-536-5950 Revision to FR Notice Published 03/23/2012: Extending Comment Period from 5/7/2012 to 5/18/2012.

Dated: April 10, 2012.
Cliff Rader,
Director, NEPA Compliance Division, Office of Federal Activities.

[FR Doc. 2012-8929 Filed 4-12-12; 8:45 am]

BILLING CODE 6560-50-P